DEPARTMENT OF HEALTH AND HUMAN SERVICES

National Institutes of Health

Submission for OMB Review; Comment Request; Customer Satisfaction With Educational Programs and Products of the National Cancer Institute

SUMMARY: Under the provisions of Section 3507(a)(1)(D) of the Paperwork Reduction Act of 1995, the National Cancer Institute (NCI), the National Institutes of Health (NIH) has submitted to the Office of Management and Budget (OMB) a request for review and approval of the information collection listed below. This proposed information collection was previously published in the Federal Register on May 29, 2003, page 32067 and allowed 60 days for public comment. Comments were received from two individuals, both of whom are contractors interested in the potential for conducting portions of the proposed information collection activities. The purpose of this notice is to allow an additional 30 days for public comment. The National Institutes of Health may not conduct or sponsor, and the respondent is not required to respond to, an information collection that has been extended, revised, or implemented on or after October 1, 1995, unless it displays a currently valid OMB control number.

Proposed Collection: Title: Customer Satisfaction with Educational Programs and Products of the National Cancer Institute. Type of Information Collection Request: NEW. Need and Use of the Information Collection: The Office of Education and Special Initiatives (OESI) of the National Cancer Institute (NCI) is responsible for the design, implementation, and evaluation of education programs over the entire cancer continuum, including prevention, screening, diagnosis, treatment, survivorship, and palliative care; it also manages NCI initiatives that address specific challenges in cancer research and treatment. To help ensure the relevance, utility, and appropriateness of the many educational programs and products that OESI and NCI produce, OESI intends to collect information on customer satisfaction with those products through customer satisfaction surveys. By obtaining information from customers on the extent to which materials satisfy their needs, OESI and NCI will be able to systematically establish and follow a feedback loop that provides useful information to revise and enhance educational programs and products so that they attain maximum relevance, utility, appropriateness, and impact. Data will be collected through various means, including telephone, mail, in-person, and web-based surveys. Frequency of Response: On occasion. Affected Public: individuals or households, organizations involved in providing health care services. Type of Respondents: health care consumers of NCI educational programs or products, including cancer patients and families, health care professionals, cancer control planners, and policymakers. The estimated annual burden hours are as follows: Estimated Number of Respondents: 2547; Estimated Number of Responses per Respondent: 1; Average Burden Hours Per Response: .167; and Estimated Total Annual Burden Hours Requested: 910 (425???). The annualized cost to respondents is estimated at: $17,049. There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Lenora Johnson, Acting Director, Office of Education and Special Initiatives, National Cancer Institute, 6116 Executive Boulevard, Suite 202, Bethesda, MD 20892-8334, (301) 451-4056.

Comments Due Date: Comments regarding this information collection are best assured of having their full effect if received within 30 days of the date of this publication.

Dated: November 6, 2003.
Reesa Nichols,
NCI Project Clearance Liaison.

[FR Doc. 03-28561 Filed 11-13-03; 8:45 am]

BILLING CODE 4140-01-M